DEPARTMENT OF TRANSPORTATION

Federal Aviation Administration

14 CFR Part 39

[Docket No. 2004-NM-38-AD; Amendment 39-13623; AD 2004-03-14 R1]

RIN 2120-AA64

Airworthiness Directives; Bombardier Model DHC-8-102, −103, −106, −201, −202, −301, −311, and −315 Series Airplanes

AGENCY: Federal Aviation Administration, DOT.

ACTION: Final rule; request for comments.

SUMMARY: This amendment revises an existing airworthiness directive (AD), applicable to certain Bombardier Model DHC-8-102, −103, −106, −201, −202, −301, −311, and −315 series airplanes, that currently requires repetitive inspections for discrepancies of certain rear spar fittings between the flex shaft of the flap secondary drive and the wing-to-fuselage structure, and corrective action if necessary. That AD also provides for an optional modification of the flex shaft installation, which terminates the repetitive inspections. This amendment requires that the actions be done per approved service information. The actions specified in this AD are intended to find and fix damage and prevent subsequent failure of the rear spar fittings, which could result in loss of the wing. This action is intended to address the identified unsafe condition.

DATES: Effective May 26, 2004.

The incorporation by reference of certain publications listed in the regulations is approved by the Director of the Federal Register as of May 26, 2004.

Comments for inclusion in the Rules Docket must be received on or before June 10, 2004.

ADDRESSES: Submit comments in triplicate to the Federal Aviation Administration (FAA), Transport Airplane Directorate, ANM-114, Attention: Rules Docket No. 2004-NM-38-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2004-NM-38-AD” in the subject line and need not be submitted in triplicate. Comments sent via the Internet as attached electronic files must be formatted in Microsoft Word 97 or 2000 or ASCII text.

The service information referenced in this AD may be obtained from Bombardier, Inc., Bombardier Regional Aircraft Division, 123 Garratt Boulevard, Downsview, Ontario M3K 1Y5, Canada. This information may be examined at the FAA, Transport Airplane Directorate, 1601 Lind Avenue, SW., Renton, Washington; at the FAA, New York Aircraft Certification Office, 1600 Stewart Avenue, suite 410, Westbury, New York; or at the National Archives and Records Administration (NARA). For information on the availability of this material at NARA, call (202) 741-6030, or go to: http://www.archives.gov/federal_register/code_of_federal_regulations/ibr_locations.html.

FOR FURTHER INFORMATION CONTACT: Jon Hjelm, Aerospace Engineer, Airframe and Propulsion Branch, ANE-171, FAA, New York Aircraft Certification Office, 1600 Stewart Avenue, suite 410, Westbury, New York 11590; telephone (516) 228-7323; fax (516) 794-5531.

SUPPLEMENTARY INFORMATION: On January 29, 2004, the FAA issued AD 2004-03-14, amendment 39-13458 (69 FR 6139, February 10, 2004), applicable to certain Bombardier Model DHC-8-102, −103, −106, −201, −202, −301, −311, and −315 series airplanes, to require repetitive inspections for discrepancies of certain rear spar fittings between the flex shaft of the flap secondary drive and the wing-to-fuselage structure, and corrective action if necessary. That action also provides for an optional modification of the flex shaft installation, which terminates the repetitive inspections. That action was prompted by reports of discrepancies of the rear spar fittings located between the flex shaft of the flap secondary drive and the wing-to-fuselage structure. The requirements of that AD are intended to find and fix damage and prevent subsequent failure of the rear spar fittings, which could result in loss of the wing.

Actions Since Issuance of Previous Rule

Since the issuance of AD 2004-03-14, we have been advised that Bombardier Service Bulletin 8-27-83, Revision ‘A’, dated February 8, 2002, which was referenced as the appropriate source of service information for the actions specified in the existing AD, was not approved by Transport Canada Civil Aviation (TCCA), which is the airworthiness authority for Canada. Subsequently, Bombardier has issued Service Bulletin 8-27-83, Revision ‘A’, dated May 29, 2002; which was approved by TCCA. The procedures described in the approved service bulletin are almost identical to those described in the earlier version of the service bulletin, with the exception of minor editorial changes.

FAA's Findings

These airplane models are manufactured in Canada and are type certificated for operation in the United States under the provisions of section 21.29 of the Federal Aviation Regulations (14 CFR 21.29) and the applicable bilateral airworthiness agreement. Pursuant to this bilateral airworthiness agreement, TCCA has kept us informed of the situation described above. We have examined the findings of TCCA, reviewed all available information, and determined that AD action is necessary for products of this type design that are certificated for operation in the United States.

Explanation of Requirements of Rule

Since an unsafe condition has been identified that is likely to exist or develop on other airplanes of the same type design registered in the United States, this AD revises AD 2004-03-14 to continue to require repetitive inspections for discrepancies of certain rear spar fittings between the flex shaft of the flap secondary drive and the wing-to-fuselage structure, and corrective action if necessary. This AD also continues to provide for an optional modification of the flex shaft installation, which terminates the repetitive inspections. This AD requires that the actions be done per the approved service bulletin described previously.

Determination of Rule's Effective Date

Since this AD action does not contain a substantive change, and because we provided notice and opportunity for prior public comment in AD 2004-03-14, there would be no interest on the part of the public in additional opportunity for comment. Further, this AD has no adverse economic impact and imposes no additional burden on any person. Therefore, prior notice and public procedures hereon are unnecessary, and the amendment may be made effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2004-NM-38-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-13458 (69 FR 6139, February 10, 2004), and by adding a new airworthiness directive (AD), amendment 39-13623, to read as follows:

2004-03-14 R1 Bombardier, Inc. (Formerly de Havilland, Inc.): Amendment 39-13623. Docket 2004-NM-38-AD. Revises AD 2004-03-14, Amendment 39-13458.

Applicability: Model DHC-8-102, −103, −106, −201, −202, −301, −311, and −315 series airplanes; certificated in any category; as listed in Bombardier Service Bulletin 8-27-83, Revision ‘A’, dated May 29, 2002.

Compliance: Required as indicated, unless accomplished previously.

To find and fix damage and prevent subsequent failure of the rear spar fittings between the flex shaft of the flap secondary drive and the wing-to-fuselage structure, which could result in loss of the wing, accomplish the following:

Repetitive Inspections/Corrective Action

(a) For airplanes with rear spar fittings having part number (P/N) 85320053, 85322060, or 85334180: Within 12 months after March 16, 2004 (the effective date of AD 2004-03-14, amendment 39-13458), do a detailed inspection for discrepancies (chafing, wear damage, cracking) of the rear spar fittings located between the flex shaft of the flap secondary drive and the wing-to-fuselage structure. Do the inspection as defined in Parts III.A., III.B., and III.D. of the Accomplishment Instructions of Bombardier Service Bulletin 8-27-83, Revision ‘A’, dated May 29, 2002, except where the service bulletin specifies to report inspection findings, this AD does not require such reporting. Do the inspection per the service bulletin, and repeat the inspection thereafter at the applicable time specified in Part I.D. ‘Compliance’ of the service bulletin. Any applicable corrective action (high frequency eddy current inspection for cracking, blending out wear damage, replacement of rear spar fittings) must be done at the applicable time specified in Part I.D. ‘Compliance’ of the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Optional Terminating Modification

(b) Modification of the flex shaft of the flap secondary drive per Part III.C. of the Accomplishment Instructions of Bombardier Service Bulletin 8-27-83, Revision ‘A’, dated May 29, 2002, terminates the repetitive inspections required by paragraph (a) of this AD.

Actions Done per Previous Issue of Service Bulletins

(c) Accomplishment of the inspections or the modification before the effective date of this AD in accordance with Bombardier Service Bulletin 8-27-83, dated October 19, 2001, is considered acceptable for compliance with the applicable actions specified in this AD.

Alternative Methods of Compliance

(d) In accordance with 14 CFR 39.19, the Manager, New York Aircraft Certification Office, FAA, is authorized to approve alternative methods of compliance for this AD.

Incorporation by Reference

(e) Unless otherwise provided in this AD, the actions shall be done in accordance with Bombardier Service Bulletin 8-27-83, Revision ‘A’, dated May 29, 2002. This incorporation by reference was approved by the Director of the Federal Register in accordance with 5 U.S.C. 552(a) and 1 CFR part 51. Copies may be obtained from Bombardier, Inc., Bombardier Regional Aircraft Division, 123 Garratt Boulevard, Downsview, Ontario M3K 1Y5, Canada. Copies may be inspected at the FAA, Transport Airplane Directorate, 1601 Lind Avenue, SW., Renton, Washington; at the FAA, New York Aircraft Certification Office, 1600 Stewart Avenue, suite 410, Westbury, New York; or at the National Archives and Records Administration (NARA). For information on the availability of this material at NARA, call (202) 741-6030, or go to: http://www.archives.gov/federal_register/code_of_federal_regulations/ibr_locations.html.

Note 2: The subject of this AD is addressed in Canadian airworthiness directive CF-2001-42, dated November 23, 2001.

Effective Date

(f) This amendment becomes effective on May 26, 2004.

Issued in Renton, Washington, on April 23, 2004.
Kalene C. Yanamura,
Acting Manager, Transport Airplane Directorate, Aircraft Certification Service.

[FR Doc. 04-10250 Filed 5-10-04; 8:45 am]

BILLING CODE 4910-13-P